DEPARTMENT OF AGRICULTURE

Food Safety and Inspection Service

[Docket No. FSIS-2020-0026]

Food Safety: Consumer Outreach and Education Today and for the Future

AGENCY: Food Safety and Inspection Service, USDA.

ACTION: Notification of public meeting.

SUMMARY: The Food Safety and Inspection Service (FSIS), is hosting a virtual public meeting with participation from the U.S. Food and Drug Administration (FDA), the Centers for Disease Control and Prevention (CDC), and the Partnership for Food Safety Education. FSIS seeks to establish a comprehensive understanding of how consumers handle and prepare food today, by reviewing recent research and forthcoming research, so as to develop the most effective approach for consumer outreach and education in the future. Industry, consumer representatives, non-profits, food safety advocates working at state, county and local levels, and other interested individuals are invited to participate in the meeting and comment on the data and science that drive FSIS consumer education.

DATES: The virtual public meeting will be held on Tuesday, October 6, 2020, from 12:00 p.m. to 4:00 p.m. EST. Submit comments on or before October 9, 2020.

ADDRESSES: The meeting is virtual and will be viewed via the web-ex link provided by email when you register for the meeting. Attendees must pre-register for the meeting. See the pre-registration instructions under “Registration and Meeting Materials.” FSIS invites interested persons to submit comments and questions on this Federal Register notice. Comments and questions may be submitted by one of the following methods:

Federal eRulemaking Portal: This website provides commenters the ability to type short comments directly into the comment field on the web page or to attach a file for lengthier comments. Go to http://www.regulations.gov. Follow the on-line instructions at that site for submitting comments.

Mail, Including CD-ROMs, etc.: Send to Docket Clerk, U.S. Department of Agriculture, Food Safety and Inspection Service, 1400 Independence Avenue SW, Mailstop 3758, Room 6065, Washington, DC 20250-3700.

Hand- or Courier-Delivered Submittals: Deliver to 1400 Independence Avenue SW, Room 6065, Washington, DC 20250-3700.

Instructions: All items submitted by mail or electronic mail must include the Agency name and docket number FSIS-2020-0026. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700.

FOR FURTHER INFORMATION CONTACT: Jesus Garcia, (202) 260-9432, Jesus.Garcia3@usda.gov. For the hearing impaired, contact the Federal Information Relay Service: https://www.federalrelay.us/ or 800-877-0996 (Voice, TTY, ASCII or Spanish).

SUPPLEMENTARY INFORMATION:

Background

FSIS has been delegated the authority to exercise the functions of the Secretary (7 CFR 2.18, 2.53), as specified in the Federal Meat Inspection Act (FMIA) (21 U.S.C. 601, et seq.), the Poultry Products Inspection Act (PPIA) (21 U.S.C. 451, et seq.) and the Egg Products Inspection Act (EPIA) (21 U.S.C. 1031, et seq.). These statutes mandate that FSIS protect the public by verifying that meat, poultry, and egg products are safe, wholesome, unadulterated, and properly labeled and packaged.

Food poisoning, also referred to as foodborne illness, is a serious public health threat in the United States. The CDC estimates that millions of Americans become ill from foodborne illness every year, resulting in roughly 128,000 hospitalizations and 3,000 deaths. Consumer education focused on safe food handling and preparation practices can help reduce food poisoning, hospitalizations, and deaths.

Consumer research is the backbone of FSIS' educational outreach. FSIS uses research to assess whether its food safety messaging meets the needs of the consumer. This data-driven approach allows FSIS to refine its consumer outreach. FSIS' Office of Public Affairs and Consumer Education (OPACE) provides this outreach, as well as general information on food recalls, food inspection policies, food handling best practices, foodborne illnesses and food safety risks, to empower consumers to make safe decisions about handling, cooking, and storing their food.

In 2017, USDA embarked on a multi-year research project to study consumers' knowledge about food safety, food handling and food preparation practices. FSIS will host a discussion at the coming public meeting to consider how the study findings provide insight into the agency's public health education and communication activities.

FSIS will hold a virtual public meeting on October 6, 2020, with participation from CDC, FDA, and the Partnership for Food Safety Education, to discuss FSIS' consumer education efforts over the years and how this multi-year research project has helped identify gaps in outreach to focus engagement where it is needed most. FSIS invites industry, consumer representatives, non-profits, food safety advocates working at state, county and local levels, and other interested individuals to this forum to discuss these efforts and how we all might be most effective in the future.

An agenda will be published online before the public meeting. FSIS will finalize the agenda on or before the meeting dates and post it on the FSIS website at: http://www.fsis.usda.gov/meetings.

Registration and Meeting Materials

There is no fee to register for the public meeting, but pre-registration is mandatory for participants attending. All attendees must register online at https://ems8.intellor.com/?do=register&t=1&p=831094.

Public Comments and Participation in Meetings

Oral Comments

Stakeholders will have an opportunity to provide oral comments during the public meeting. As mentioned above, stakeholders must notify FSIS during registration of their wish to speak at the meeting. Stakeholders who do not notify FSIS during registration of their wish to speak will not have the opportunity to comment on the day of the public meeting. Due to the anticipated high level of interest in the opportunity to make public comments and the limited time available to do so, FSIS will do its best to accommodate all persons who registered and requested to provide oral comments, and will limit all speakers to three minutes. FSIS encourages persons and groups who have similar interests to consolidate their information for presentation by a single representative.

Public Questions

During the meeting, FSIS will host a roundtable discussion with subject matter experts. Questions may be submitted in advance (by September 18, 2020) using the process described above in the ADDRESSES section.

Transcripts

As soon as the meeting transcripts are available they will be accessible on the FSIS website at: http://www.fsis.usda.gov/wps/portal/fsis/newsroom/meetings. The transcripts may also be viewed at the FSIS Docket Room at the addressed listed above.

Additional Public Notification

Public awareness of all segments of rulemaking and policy development is important. Consequently, FSIS will announce this Federal Register publication on-line through the FSIS web page located at: http://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Paul Kiecker,
Administrator.

[FR Doc. 2020-18589 Filed 8-24-20; 8:45 am]

BILLING CODE 3410-DM-P